Proclamation 9295 of June 12, 2015

World Elder Abuse Awareness Day, 2015

By the President of the United States of America

A Proclamation

For 10 years, Americans have marked World Elder Abuse Awareness Day by joining with individuals worldwide to take a stand against elder abuse, neglect, and exploitation. Often under-identified and under-reported, elder abuse is a public health crisis that crosses all socioeconomic lines, and it is an affront to human rights around the world. Today, we once again take this opportunity to raise awareness of this injustice, and with the international community, we recommit to ending this abuse, supporting those who are victims, and holding perpetrators accountable.

Every year, millions of older Americans experience abuse, neglect, or exploitation. They are our friends and neighbors, and our parents, grandparents, and loved ones, and we must do more to change this unacceptable reality. Elder abuse can take many forms—including physical, emotional, and sexual abuse, as well as neglect, abandonment, and financial exploitation—and it is important for all Americans to learn how to recognize and report mistreatment. The way we treat our older citizens reflects our values as a society, and it is our shared responsibility to ensure all our seniors receive the support and protection they deserve. To find out more and to learn what you can do to combat elder abuse, visit www.NCEA.AOA.gov.

My Administration is committed to protecting and empowering our Nation's older Americans so they can live out their years with dignity and independence. Through the Affordable Care Act, we enacted the Elder Justice Act, which authorized important new initiatives to prevent elder abuse. We have worked tirelessly to strengthen and protect the programs that provide essential support, quality care, and economic security to our seniors, including Medicare, Medicaid, the Older Americans Act, and Social Security. And to help safeguard those who responsibly prepare for retirement from financial exploitation, I have called for new rules to require financial advisors to put their clients' interests before their own.

The Federal Government is working with non-profit and private sector leaders, as well as State, local, and tribal governments to provide education, outreach, and resources that help older Americans live safe and productive lives. As part of my Administration's efforts to address these critical issues, next month I will host the White House Conference on Aging. Connecting older Americans, their families, caregivers, advocates, community leaders, and experts, the Conference will be an important opportunity to continue our efforts to promote healthy aging, provide long-term services and support, defend retirement security, and protect older Americans from abuse in all its forms.

After a lifetime of contributions to their families, their communities, and our world, older Americans deserve to live free from harm and abuse. As a society, we must lift up our seniors by advancing policies of inclusion and combating ageism wherever it exists. On World Elder Abuse Awareness Day, let us join with law enforcement officials, adult protective services professionals, health and human services providers, neighbors, caregivers, and community leaders to strengthen our long-term care systems and redouble our efforts to build communities that safeguard our elders and support long and healthy lives for all people throughout the world.

NOW, THEREFORE, I, BARACK OBAMA, President of the United States of America, by virtue of the authority vested in me by the Constitution and the laws of the United States, do hereby proclaim June 15, 2015, as World Elder Abuse Awareness Day. I call upon all Americans to observe this day by learning the signs of elder abuse, neglect, and exploitation, and by raising awareness about this important public health issue.

IN WITNESS WHEREOF, I have hereunto set my hand this twelfth day of June, in the year of our Lord two thousand fifteen, and of the Independence of the United States of America the two hundred and thirty-ninth.

[FR Doc. 2015-15112

Filed 6-16-15; 11:15 am]

Billing code 3295-F5